DEPARTMENT OF TRANSPORTATION

Federal Aviation Administration

Notice of Intent To Release Airport Property; Southwest Florida International Airport, Fort Myers, FL.

AGENCY: Federal Aviation Administration (FAA), DOT.

ACTION: Request for public comment.

SUMMARY: The FAA hereby provides notice of intent to release approximately 0.521 acres of airport property at the Southwest Florida International Airport, Fort Myers, FL, from the terms, conditions, reservations, and restrictions as contained in federal grant assurances. The release of property will allow Lee County Port Authority to dispose of the property for other than aeronautical purposes. The property is located on Treeline Avenue along its proposed intersection with the extension of Jetport Loop, Fort Myers, Florida. The parcel is currently designated as aeronautical land use. The property will be released of its federal obligations for roadway access/right-of-way purposes. The fair market value of these parcels has been determined to be $170,000.

DATES: Comments are due on or before October 11, 2016.

ADDRESSES: Documents are available for review at Lee County Port Authority, 11000 Terminal Access Road, Suite 8671, Fort Myers, Florida 33913; and the FAA Airports District Office, 5950 Hazeltine National Drive, Suite 400, Orlando, FL 32822. Written comments on the Sponsor's request must be delivered or mailed to: Marisol C. Elliott, Community Planner, Orlando Airports District Office, 5950 Hazeltine National Drive, Suite 400, Orlando, FL 32822-5024. Documents reflecting the Sponsor's request are available for inspection by appointment only at the Lee County Port Authority and by contacting the FAA at the address listed above.

FOR FURTHER INFORMATION CONTACT: Marisol C. Elliott, Community Planner, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Issued in Orlando, Florida, on August 31, 2016.
Bart Vernace,
Manager, Orlando Airports District Office, Southern Region.

[FR Doc. 2016-21558 Filed 9-7-16; 8:45 am]

BILLING CODE 4910-13-P